DEPARTMENT OF ENERGY

Federal Energy Regulatory Commission

[Docket No. EL04-82-000]

NRG Power Marketing, Inc., Connecticut Jet Power LLC, Middletown Power LLC, Montville Power LLC , and Norwalk Power, LLC, Complainants; v. ISO New England, Respondent; Notice of Amended Complaint

April 27, 2004.

Take notice that on April 2, 2004, the NRG Companies filed an Amended Complaint against ISO New England, Inc. (ISO-NE). The Amended Complaint amends the February 10, 2004, Complaint filed by the NRG Companies against ISO-NE. Specifically, the Amended Complaint adds Norwalk Power, LLC, as a complainant. The NRG Companies further state that they are amending their complaint by supplementing it to include all known instances where the ISO violated its Market Rules and Commission Orders by denying Operating Reserve Payments when the ISO directed the NRG Companies' generating units to provide operating reserves as pool-scheduled resources for several operating days after the operating day in which the units self-scheduled. The NRG Companies' amended claim totals $1,532,564.35.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's web site under the “e-Filing” link. The Commission strongly encourages electronic filings.

Comment Date: May 7, 2004.

Magalie R. Salas,
Secretary.

[FR Doc. E4-984 Filed 4-30-04; 8:45 am]

BILLING CODE 6717-01-P